DEPARTMENT OF JUSTICE

Notice of Lodging of Settlement Agreement Under the Comprehensive Environmental Response, Compensation, and Liability Act

Notice is hereby given that on April 25, 2008, a proposed Settlement Agreement in United States and the State of Montana v. ASARCO LLC, Atlantic Richfield Company (“Arco”), and Arco Environmental Remediation LLC, No. 6:08-CV-00030 DWM, was lodged with the United States District Court for the District of Montana, Helena Division.

In this action the United States and the State of Montana alleged claims for injunctive relief, recovery of response costs, and recovery of natural resource damages in connection with the release and threats of release of hazardous substances at and from the Mike Horse Mine and surrounding area (“Site”) in Lewis and Clark County, Montana, pursuant to sections 106, 107 and 113(f) of the Comprehensive Environmental Response, Compensation, and Liability Act (“CERCLA”), 42 U.S.C. 9606, 9607 & 9613(f); sections 301(a), 309(b) and 311 of the Clean Water Act (“CWA”), 33 U.S.C. 1311(a), 1319(b) & 1321; and section 7003 of the Resource Conservation and Recovery Act (“RCRA”), 42 U.S.C. 6973. The State also alleged claims under the Montana Comprehensive Environmental Cleanup and Responsibility Act (“CECRA”), Mont. Code Ann. sections 75-10-701, et seq., and the Montana Water Quality Act (“WQA”), Mont. Code Ann. sections 75-5-101, et seq.

The Settlement Agreement, which is subject to the district court's approval, requires among other things that the settlers pay $17 million in cash. Of this sum, ASARCO LLC will pay $8.5 million and Arco and Arco Environmental Remediation LLC will pay $8.5 million. From these initial cash payments, $1 million will be paid to the Forest Service in reimbursement of response costs expected to be incurred in oversight of response actions. The remainder will be paid to the State. The State will use the funds to perform response action and natural resource restoration. In addition, ASARCO LLC has agreed to an allowed general unsecured claim of $20 million to be paid out in accordance with the terms of plan confirmation. Of that sum, $19,771,554.00 will be the State's allowed claim to be used for additional response action and natural resource damage restoration work. The remaining $228,446.00, which is the full amount of the Forest Service's past response costs excluding interest, will be the Forest Service's allowed claim.

The Settlement Agreement is also subject to bankruptcy court approval in Matter of ASARCO LLC, et al., No. 05-21207 (Bankr. S.D. Tex.).

The Department of Justice will receive comments relating to the Settlement Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611. In either case, the comments should refer to United States v. ASARCO, LLC., Arco, and Arco Envtl. Remediation, No. 6:08-CV-00030, DJ No. 90-11-3-09141/1. Commenting parties may request an opportunity for a public meeting in the affected area, in accordance with section 7003(d) of RCRA, 42 U.S.C. 6973(d).

The Settlement Agreement may be examined at the Office of the United States Attorney, District of Montana, Western Security Bank Building, 2929 3rd, Billings, MT 59101, (406) 657-6101. During the public comment period, the Settlement Agreement may also be examined on the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $11.50 (25 cents per page reproduction cost) payable to the United States Treasury or, if by e-mail or fax, forward a check in that amount to the Consent Decree Library at the stated address.

Robert E. Maher Jr.,
Assistant Section Chief, Environmental Enforcement Section, Environment and Natural Resources Division.

[FR Doc. E8-9766 Filed 5-2-08; 8:45 am]

BILLING CODE 4410-15-P